DEPARTMENT OF JUSTICE

[OMB Number 1103-NEW]

Agency Information Collection Activities; Proposed eCollection eComments Requested; New Collection: Salt Lake City Police Department HOST Project Stakeholder Survey

AGENCY: Office of Community Oriented Policing Services, Department of Justice.

ACTION: 60-Day notice.

SUMMARY: The Department of Justice (DOJ), Office of Community Oriented Policing Services (COPS), will be submitting the following information collection request to the Office of Management and Budget (OMB) for review and approval in accordance with the Paperwork Reduction Act of 1995. The proposed information collection is published to obtain comments from the public and affected agencies.

DATES: Comments are encouraged and will be accepted for 60 days until May 27, 2014.

FOR FURTHER INFORMATION CONTACT: If you have additional comments especially on the estimated public burden or associated response time, suggestions, or need a copy of the proposed information collection instrument with instructions or additional information, please contact Kimberly Brummett, Program Specialist, Office of Community Oriented Policing Services, 145 N Street NE., Washington, DC 20530 (phone: 202-353-9769).

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the Office of Community Oriented Policing Services, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1 Type of Information Collection: New collection.

2 The Title of the Form/Collection: Salt Lake City Police Department HOST Project Stakeholder Survey.

3 The agency form number, if any, and the applicable component of the Department sponsoring the collection: The applicable component within the Department of Justice is the Office of Community Oriented Policing Services.

4 Affected public who will be asked or required to respond, as well as a brief abstract: This information collection is a survey of the stakeholders of the Salt Lake City Police Department's HOST Project to combat panhandling in their jurisdiction. Salt Lake City Police Department is a grantee of the Office of Community Oriented Policing Services, and the survey will support the work they are doing with the grant. Stakeholders who will be surveyed include law enforcement officers and staff, Volunteers of America, clinic workers, NGO staff, businesses and general community members.

5 An estimate of the total number of respondents and the amount of time estimated for an average respondent to respond: An estimated 75 stakeholders will take part in the Salt Lake City Police Department HOST Project Stakeholder Survey. The estimated range of burden for respondents is expected to be between 15-20 minutes for completion.

6 An estimate of the total public burden (in hours) associated with the collection: The estimated public burden associated with this collection is 24.75 hours. It is estimated that respondents will take 20 minutes to complete the survey. The burden hours for collecting respondent data sum to 24.75 hours (75 respondents × .33 hours = 24.75 hours).

If additional information is required contact: Jerri Murray, Department Clearance Officer, United States Department of Justice, Justice Management Division, Policy and Planning Staff, Two Constitution Square, 145 N Street NE., 3W-1407B, Washington, DC 20530.

Dated: March 20, 2014.
Jerri Murray,
Department Clearance Officer for PRA, U.S. Department of Justice.

[FR Doc. 2014-06501 Filed 3-24-14; 8:45 am]

BILLING CODE 4410-AT-P